DEPARTMENT OF AGRICULTURE

Animal and Plant Health Inspection Service

[Docket No. APHIS-2006-0003]

Horse Protection; Public Meeting

AGENCY: Animal and Plant Health Inspection Service, USDA.

ACTION: Notice of public meeting.

SUMMARY: We are advising the public that the Animal and Plant Health Inspection Service's Animal Care program will host a meeting to present current information on the enforcement of the Horse Protection Act (HPA) and provide a forum for horse industry members and other interested persons to comment on the Horse Protection Program, development of the HPA Operating Plan for 2007 and beyond, and other Horse Protection matters. This notice provides the meeting's agenda, location, and date.

DATES: The meeting will be held from 9 a.m. to 1 p.m. on February 8, 2006. Registration will take place from 8:30 a.m. to 9 a.m.

ADDRESSES: The meeting will be held at the Blue Ribbon Circle Club, 1110 Evans Street, Shelbyville, TN 37160.

FOR FURTHER INFORMATION CONTACT: Mr. Darby G. Holladay, APHIS Legislative and Public Affairs, 4700 River Road Unit 51, Riverdale, MD 20737; (301) 734-3265.

SUPPLEMENTARY INFORMATION: The Animal and Plant Health Inspection Service (APHIS), Animal Care, is announcing a meeting to discuss the enforcement of the Horse Protection Act (HPA). This meeting is designed to provide a forum for information dissemination on current initiatives by Animal Care. Further, this meeting will provide the opportunity for industry members and other interested parties to provide suggestions for the HPA Operating Plan for 2007 and beyond and comments on other Horse Protection Program matters during the listening session period on the agenda. Each speaker will indicate at registration their intention to address the Deputy Administrator during the listening session and will be allotted a set amount of time. Additional meetings of this type are tentatively scheduled to occur on the following dates and times: March 13, 2006, in Springfield, MO; April 19, 2006 in Dallas, TX; June 12, 2006, in Pomona, CA; September 11, 2006, in Chattanooga, TN; and December 11, 2006, in Riverdale, MD. These meetings will be announced in future Federal Register notices.

The meeting will, with the exception of possible minor modifications, follow the agenda below:

8:30 a.m. to 9 a.m.—Registration

9 a.m. to 9:15 a.m.—Welcome and Overview

9:15 a.m. to 11 a.m.—Horse Protection Program Update

11 a.m. to 12:45 p.m.—Listening Session

12:45 p.m. to 1 p.m.—Remarks and Closing

Meeting notices, copies of the Horse Protection Act, HPA regulations, the HPA Operating Plan for 2004-2006, and other relevant documents are available on the Animal Care Web site at http://www.aphis.usda.gov/ac/hpainfo.html.

Please note that this meeting is being held to provide for the exchange of information on the enforcement of the Horse Protection Act and is not an opportunity to submit formal comments on proposed rules or other regulatory initiatives. Written comments will be accepted and should be mailed to: USDA, APHIS, Animal Care, 4700 River Road Unit 84, Riverdale, MD 20737.

Done in Washington, DC, this 11th day of January 2006.
Paul R. Eggert,
Acting Administrator, Animal and Plant Health Inspection Service.

[FR Doc. E6-444 Filed 1-17-06; 8:45 am]

BILLING CODE 3410-34-P